DEPARTMENT OF STATE

[Public Notice 10463]

60-Day Notice of Proposed Information Collection: Complaint of Discrimination Under Section 504, Section 508, or Title VI

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to April 15, 2019.

ADDRESSES: You may submit comments by any of the following methods:

• Web: Persons with access to the internet may comment on this notice by going to www.Regulations.gov. You can search for the document by entering “Docket Number: DOS-2018-0030” in the Search field. Then click the “Comment Now” button and complete the comment form.

• Email: kottmyeram@state.gov.

You must include the DS form number (if applicable), information collection title, and the OMB control number in any correspondence.

FOR FURTHER INFORMATION CONTACT: Direct requests for additional information regarding the collection listed in this notice, including requests for copies of the proposed collection instrument and supporting documents, to Alice Kottmyer, Attorney-Adviser, who may be reached on 202-647-2318 or at kottmyeram@state.gov.

SUPPLEMENTARY INFORMATION:

• Title of Information Collection: Complaint of Discrimination Under Section 504, Section 508 or Title VI.

• OMB Control Number: 1405-0220.

• Type of Request: Extension of a Currently Approved Collection.

• Originating Office: Office of Civil Rights, S/OCR.

• Form Number: DS-4282.

• Respondents: This information collection is used by any Federal employee or member of the public who wishes to submit a complaint of discrimination under Title VI of the Civil Rights Act of 1964 (42 U.S.C. 2000d); or Sections 504 or 508 of the Rehabilitation Act of 1973 (29 U.S.C. 794 and 794d).

• Estimated Number of Respondents: 10.

• Estimated Number of Responses: 10.

• Average Time per Response: 1 Hour.

• Total Estimated Burden Time: 10 Hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The form created by this information collection (DS-4282) will be used to present complaints of discrimination under Title VI of the Civil Rights Act of 1964; or Sections 504 or 508 of the Rehabilitation Act of 1973 (29 U.S.C. 794 and 794d).

Methodology

The form can be downloaded from https://eforms.state.gov/Forms/ds4282.PDF. After completion, the form may be submitted by email, mail, fax, or hand-delivery.

Dated: February 6, 2019.
Gregory B. Smith,
Director, Office of Civil Rights, Department of State.

[FR Doc. 2019-02093 Filed 2-11-19; 8:45 am]

BILLING CODE 4710-10-P